DEPARTMENT OF COMMERCE

National Oceanic and Atmospheric Administration

Proposed Information Collection; Comment Request; Northeast Region Sea Scallop Framework 16 Adjustment

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 16, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Don Frei, 978-281-9221 or don.Frei@noaa.gov.

SUPPLEMENTARY INFORMATION:

I. Abstract

Recent Atlantic sea scallop fishery management actions included a controlled Area Access Program as a key part of scallop management. To ensure compliance with the Area Access Program, participating vessels are required to use a Vessel Monitoring System (VMS) to enroll in the program and to report catch. On November 2, 2004, Framework 16 to the Atlantic Sea Scallop Fishery Management Plan (FMP) and Framework 39 to the Northeast Multispecies FMP (Joint Frameworks) were implemented and included these same provisions for a new Area Access Program. In addition, the Joint Frameworks extended the Area Access Program, and VMS reporting requirements to include the general category scallop vessels, which were not previously eligible to fish in the Area Access Program. The reporting requirements for the general category scallop vessels are currently approved through June 30, 2005, and would be extended for 3 years through this action.

II. Method of Collection

General category scallop vessels fishing in the Area Access Program are required to install and operate VMS units, and report catch and related information through the VMS e-mail messaging system. The vessels must send notification of intent to fish in the Area Access Program through the VMS e-mail system at least 72 hours prior to the opening of an access area. All Area Access Program vessels must also notify the National Marine Fisheries Service (NMFS), via VMS message, of their intent to fish in the Area Access Program for any given month (5 days prior to the beginning of the month). These notifications to NMFS are necessary in order to allow for the assignment of at-sea observers on some trips. The VMS is polled every 30 minutes consistent with the requirement for other vessels participating in the Area Access Program.

III. Data

OMB Number: 0648-0509.

Form Number: None.

Type of Review: Regular submission.

Affected Public: Business or other for-profit organizations.

Estimated Number of Respondents: 274.

Estimated Time Per Response: Installation of VMS, 1 hour; verification requirement of VMS unit, 5 minutes (0.083 hour); daily reporting requirements with observer on board, 10 minutes (0.17 hour); daily reporting requirements without observer on board, 10 minutes (0.17 hour); VMS/5-day notification before month of fishing, 2 minutes (0.033 hour); VMS/72-hour departure notification to a controlled access area, 2 minutes (0.033 hour); notification for the day vessel leaves on the area access trip, 2 minutes (0.033 hour); VMS polling-daily, twice per hour, 6 seconds (0.0014 hour).

Estimated Total Annual Burden Hours: 13,152.

Estimated Total Annual Cost to Public: $491,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 10, 2005.
Gwellnar Banks,
Management Analyst, Office of the Chief Information Officer.

[FR Doc. 05-5242 Filed 3-16-05; 8:45 am]

BILLING CODE 3510-22-P